DEPARTMENT OF LABOR

Office of Federal Contract Compliance Programs

41 CFR Part 60-250

RIN 1215-AB24

Affirmative Action and Nondiscrimination Obligations of Contractors and Subcontractors Regarding Protected Veterans; Correction

AGENCY: Office of Federal Contract Compliance Programs, Labor.

ACTION: Correcting Amendment.

SUMMARY: This document contains a correction to the Office of Federal Contract Compliance Programs (OFCCP) final regulations implementing the affirmative action provisions of the Vietnam Era Veterans' Readjustment Assistance Act of 1974 (VEVRAA), which were published in the Federal Register on December 1, 2005. Those final regulations, among other things, incorporate the changes to VEVRAA that were made by the Veterans Employment Opportunities Act of 1998 and the Veterans Benefits and Health Care Improvement Act of 2000.

EFFECTIVE DATE: February 7, 2006.

FOR FURTHER INFORMATION CONTACT: James C. Pierce, Acting Director, Division of Policy, Planning, and Program Development, Office of Federal Contract Compliance Programs, 200 Constitution Avenue, NW., Room N3422, Washington, DC 20210. Telephone: (202) 693-0102 (voice) or (202) 693-1337 (TTY).

SUPPLEMENTARY INFORMATION:

Background

Prior to the 1998 and 2000 statutory amendments, the affirmative action provisions of the Vietnam Era Veterans' Readjustment Assistance Act of 1974, as amended, 38 U.S.C. 4212 (“Section 4212” or “VEVRAA”) required parties holding Government contracts or subcontracts of $10,000 or more to “take affirmative action to employ and advance in employment qualified special disabled veterans and veterans of the Vietnam era.” The Veterans Employment Opportunities Act of 1998 (VEOA) amended section 4212(a) in two ways. First, section 7 of VEOA raised the amount of a contract required to establish VEVRAA coverage from $10,000 or more to $25,000 or more. Second, section 7 of VEOA granted VEVRAA protection to veterans who have served on active duty during a war or in a campaign or expedition for which a campaign badge has been authorized.

The Veterans Benefits and Health Care Improvement Act of 2000 (VBHCIA) amended VEVRAA by extending VEVRAA protection to “recently separated veterans” “ those veterans “during the one-year period beginning on the date of such veteran's discharge or release from active duty.” The final rule regulations published on December 1, 2005, incorporate the changes made by VEOA and VBHCIA to the contract coverage threshold and the categories of protected veterans under VEVRAA.

Need for Correction

Section 60-250.2 in the final regulations published on December 1, 2005, contains definitions of terms used in the part 60-250 regulations. A final rule published on June 22, 2005, (70 FR 36262), added a new paragraph (v) to § 60-250.2, which set forth a definition for the term “compliance evaluation.” However, the definition for the term “compliance evaluation” was inadvertently omitted from § 60-250.2 in the final regulations published on December 1, 2005. To correct the error, this document adds the definition for the term “compliance evaluation” to § 60-250.2.

List of Subjects in 41 CFR Part 60-250

Administrative practice and procedure, Civil rights, Employment, Equal employment opportunity, Government contracts, Government procurement, Individuals with disabilities, Investigations, Reporting and recordkeeping requirements, and Veterans.

Signed at Washington, DC, this 31st day of January, 2006.
Victoria A. Lipnic,
Assistant Secretary for Employment Standards.
Charles E. James, Sr.,
Deputy Assistant Secretary for Federal Contract Compliance.

Accordingly, for the reason set forth above, 41 CFR part 60-250 is corrected by making the following correcting amendment:

PART 60-250—AFFIRMATIVE ACTION AND NONDISCRIMINATION OBLIGATIONS OF CONTRACTORS AND SUBCONTRACTORS REGARDING SPECIAL DISABLED VETERANS, VETERANS OF THE VIETNAM ERA, RECENTLY SEPARATED VETERANS, AND OTHER PROTECTED VETERANS

1. The authority citation for Part 60-250 continues to read as follows:

Authority: 29 U.S.C. 793; 38 U.S.C. 4211 (2001) (amended 2002); 38 U.S.C. 4212 (2001) (amended 2002); E.O. 11758 (3 CFR, 1971-1975 Comp., p. 841).

2. Section 60-250.2 is corrected by adding a paragraph (x) to read as follows:

§ 60-250.2 Definitions.

* * * * *

(x) Compliance evaluation means any one or combination of actions OFCCP may take to examine a Federal contractor's or subcontractor's compliance with one or more of the requirements of the Vietnam Era Veterans' Readjustment Assistance Act.

[FR Doc. 06-1092 Filed 2-6-06; 8:45 am]

BILLING CODE 4510-CM-P